DEPARTMENT OF COMMERCE

International Trade Administration

[A-552-801]

Investigation of Certain Frozen Fish Fillets From the Socialist Republic of Vietnam: Opportunity To Comment on Petitioner's Allegation That Vietnam Has a Non-Market Economy

AGENCY: Import Administration, International Trade Administration, Department of Commerce.

ACTION: Request for comments.

SUMMARY: The Department of Commerce is requesting comment on Petitioner's allegation that Vietnam has a non-market economy.

DATES: August 14, 2002.

FOR FURTHER INFORMATION CONTACT: Shauna Lee-Alaia or George Smolik, Office of Policy, Import Administration, International Trade Administration, U.S. Department of Commerce, 14th Street and Constitution Avenue, NW., Washington, DC 20230; telephone: (202) 482-2097, (202) 482-1843, respectively.

SUPPLEMENTARY INFORMATION:

The Applicable Statute

Unless otherwise indicated, all citations to the Tariff Act of 1930, as amended (the Act) are references to the provisions effective January 1, 1995, the effective date of the amendments made to the Act by the Uruguay Round Agreements Act (URAA). In addition, unless otherwise indicated, all citations to the Department of Commerce's (“Department's”) regulations are to 19 CFR part 351 et al. (2001).

Background

On June 28, 2002, the Department of Commerce (“Department”) received a petition on imports of certain frozen fish fillets from the Socialist Republic of Vietnam (“Vietnam”) filed in proper form by Catfish Farmers of America (“CFA”) and the individual U.S. catfish processors America's Catch Inc.; Consolidated Catfish Co., L.L.C.; Delta Pride Catfish, Inc.; Harvest Select Catfish, Inc.; Heartland Catfish Company; Pride of the Pond; Simmons Farm Raised Catfish, Inc.; and Southern Pride Catfish Co., Inc., hereinafter referred to collectively as “the petitioners.” In accordance with section 732(b) of the Act, the petitioners alleged that imports of certain frozen fish fillets from Vietnam are being, or are likely to be, sold in the United States at less than fair value within the meaning of section 731 of the Act, and that such imports are materially injuring and threaten to injure an industry in the United States. Based upon our examination of the petition on frozen fish fillets from Vietnam, we found that the petition met the requirements of section 732 of the Act and subsequently initiated an antidumping duty investigation on July 18, 2002.

Petitioners have also alleged that Vietnam has a non-market economy. We are therefore undertaking an analysis of Vietnam's economy in the context of the investigation referred to herein. In order to provide greater certainty to all parties as this investigation proceeds, we intend to carry out this analysis on an expedited basis and anticipate that a determination on the market/non-market economy status of Vietnam will be issued prior to or concurrent with the issuance of the preliminary determination.

Opportunity for Public Comment

The Department invites public comment on Vietnam's economy in regards to the factors listed in section 771(18)(B) of the Act, which the Department must take into account when making a non-market economy status determination:

(i) The extent to which the currency of the foreign country is convertible into the currency of other countries;

(ii) The extent to which wage rates in the foreign country are determined by free bargaining between labor and management;

(iii) The extent to which joint ventures or other investments by firms of other foreign countries are permitted in the foreign country;

(iv) The extent of government ownership or control of the means of production;

(v) The extent of government control over allocation of resources and over price and output decisions of enterprises; and

(vi) Such other factors as the administering authority considers appropriate.

Comments—Deadline, Format, and Number of Copies

The deadline for submission of comments will be 21 calender days after the date of publication of this notice in the Federal Register. All comments should be filed at the Department of Commerce Central Records Unit located at the address listed below. Rebuttal comments may be submitted up to10 calender days after the date initial comments are due.

Each party submitting comments should include his or her name and address, and fully document or support all assertions and claims, using the following format: (1) Begin each comment on a separate page; (2) concisely state the issue identified and discussed in the comment and include any supporting documentation in exhibits or appendices; (3) provide a brief summary of the comment (a maximum of 3 sentences) and label this section “summary of comment”; (4) provide an index or table of contents; and (5) include the case number A-552-801 in the top right hand corner of the submission.

To simplify the processing and distribution of comments, the Department requests that submission of documents in electronic form be accompanied by an original and 6 copies in paper form. We require that documents filed in electronic form be on DOS formatted 3.5” diskettes and prepared in either WordPerfect 9 format or a format that the Word Perfect program can convert and import into WordPerfect 9. Please submit comments in separate files on the diskette. Comments received on diskette will be made available to the public on the Internet at Import Administration's Web site, http://ia.ita.doc.gov. Paper copies will be available for reading and photocopying in the Central Records Unit, Room B-099, U.S. Department of Commerce, Pennsylvania Avenue and 14th Street, NW., Washington, DC 20230. Any questions concerning file formatting, document conversion, access on the Internet, or other file requirements should be addressed to Andrew Lee Beller, Import Administration Webmaster, (202) 482-0866.

Public Hearing

After reviewing all comments and rebuttal comments, the Department will determine if a public hearing on the non-market economy issue is warranted, if one is requested in the initial comments on this issue, and, if so, will announce a place and time for that hearing, which will be held no later than 30 days after the final rebuttal comments are due.

This determination is issued and published in accordance with section 771(18)(c)(ii).

Dated: August 9, 2002.
Bernard T. Carreau,
Acting Assistant Secretary for Import Administration.

[FR Doc. 02-20674 Filed 8-13-02; 8:45 am]

BILLING CODE 3510-DS-P